DEPARTMENT OF TRANSPORTATION

Federal Aviation Administration

14 CFR Part 39

[Docket No. FAA-2010-0859; Directorate Identifier 2010-NM-113-AD; Amendment 39-16614; AD 2011-05-05]

RIN 2120-AA64

Airworthiness Directives; Airbus Model A330-200 and -300 Series Airplanes and Model A340-200, -300, -500, and -600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

* * * * *

* * * [T]here is a possible path for fluid ingress, resulting in connector internal arcing and hydraulic system malfunction. In addition, as the connectors are located in areas adjacent to fuel tanks, such arcing associated with the presence of a fuel leakage could lead to an uncontrolled fire.

* * * * *

We are issuing this AD to require actions to correct the unsafe condition on these products.

DATES: This AD becomes effective March 31, 2011.

The Director of the Federal Register approved the incorporation by reference of certain publications listed in this AD as of March 31, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on September 29, 2010 (75 FR 60010). That NPRM proposed to correct an unsafe condition for the specified products. The MCAI states:

Several A330 and A340 operators have reported in service occurrences of hydraulic pump electrical motor connector internal arcing, resulting in:

—Either false hydraulic system overheat Electronic Centralized Aircraft Monitoring (ECAM) warnings

—and/or hydraulic pump electrical motor malfunction.

Investigations have shown that, due to the manufacturing tolerances of the cables and the connectors rear grommet, there is a possible path for fluid ingress, resulting in connector internal arcing and hydraulic system malfunction. In addition, as the connectors are located in areas adjacent to fuel tanks, such arcing associated with the presence of a fuel leakage could lead to an uncontrolled fire.

In order to protect the hydraulic pump electrical motor connectors against fluid ingress from the rear of the connector grommet and prevent false hydraulic system overheat ECAM warnings and/or hydraulic pump electrical motor malfunction, this AD requires modification of the three hydraulic pump electrical motor connectors associated to the Blue, Yellow and Green hydraulic systems.

This Revision 1 is issued to delete Airbus modifications 55923S18878 and 55924S19452 from the applicability of this AD.

The modification adds heat shrink sleeves to certain cable contacts and a sealing plug to the connector free cavity. You may obtain further information by examining the MCAI in the AD docket.

Relevant Service Information

The NPRM referred to the service information in the following table as the applicable sources of service information.

Table—Service Information Cited in the NPRM
Airplane model— | Airbus Mandatory Service Bulletin— | Revision— | Dated—
A330 | A330-92-3088, including Appendix 01 | 01 | February 22, 2010.
A340 | A340-92-4081, including Appendix 01 | 01 | February 22, 2010.
A340 | A340-92-5053, including Appendix 01 | 01 | February 22, 2010.

Airbus has released the service information in the following table. No additional work is necessary for airplanes on which earlier revisions of the service information are done. We have updated Tables 1 and 3 of the final rule to refer to these sources of service information. We have also updated Table 2 of the final rule to give credit for using Revision 01 of the service information.

Table—Revised Service Information
Airplane model— | Airbus Mandatory Service Bulletin— | Revision— | Dated—
A330 | A330-92-3088, including Appendix 01 | 02 | September 1, 2010.
A340 | A340-92-4081, including Appendix 01 | 02 | September 1, 2010.
A340 | A340-92-5053, including Appendix 01 | 02 | September 1, 2010.

Comments

We gave the public the opportunity to participate in developing this AD. We considered the comment received.

Support for the NPRM

Delta stated that it agreed with the intent of the rule.

Request To Revise Compliance Times

Delta requested that we revise the compliance time from within 3,600-flight-hours to 10,000 flight hours or 24 months after the effective date of the AD to allow operators the flexibility to schedule the task during routine maintenance opportunities. Delta stated that revising the compliance times would be more congruous with AD 2008-06-25, Amendment 39-15437 (73 FR 14659). Delta stated that it reviewed its maintenance records for Model A330 airplanes, and it has not experienced a single failure of a hydraulic electric motor pump electrical connector in approximately 738,000 hours of operation. Furthermore, Delta stated that there have been no cases of fire as a result of arcing within the hydraulic electric motor pump connectors and that arcing within the connectors without the presence of flammable fluid does not constitute a safety issue.

We do not agree with the commenter's request to extend the compliance time. In developing an appropriate compliance time for this action, we considered the safety implications, parts availability, and normal maintenance schedules for the timely accomplishment of the modification. In consideration of these items, we have determined that a 3,600-flight-hour compliance time will ensure an acceptable level of safety and allow the modifications to be done during scheduled maintenance intervals for most affected operators. However, under the provisions of paragraph (i)(1) of the final rule, we will consider requests for approval of an extension of the compliance time if sufficient data are submitted to substantiate that the change would provide an acceptable level of safety. We have not changed the final rule in regard to this issue.

Request To Include Reference for Additional Tooling

Delta requested that we revise the NPRM to include Airbus Service Bulletin Information Telex (SBIT) 10-0039, dated October 14, 2010, or that we delay issuing the final rule until Revision 03 of Airbus Mandatory Service Bulletin A330-92-3088 is released. Delta stated that Airbus has informed operators that Airbus Mandatory Service Bulletin A330-92-3088 is being revised to include direct references to the adequate tool part numbers.

We disagree with the request to include the SBIT and with the request to delay the final rule until Revision 03 of Airbus Mandatory Service Bulletin A330-92-3088 is released. Although the SBIT does contain tooling information, this AD does not mandate which tooling to use. We did not revise the final rule in this regard.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 43 products of U.S. registry. We also estimate that it will take about 13 work-hours per product to comply with the basic requirements of this AD. The average labor rate is $85 per work-hour. Required parts will cost about $877 per product. Where the service information lists required parts costs that are covered under warranty, we have assumed that there will be no charge for these parts. As we do not control warranty coverage for affected parties, some parties may incur costs higher than estimated here. Based on these figures, we estimate the cost of this AD to the U.S. operators to be $85,226 or $1,982 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-05-05 Airbus: Amendment 39-16614. Docket No. FAA-2010-0859; Directorate Identifier 2010-NM-113-AD.

Effective Date

(a) This airworthiness directive (AD) becomes effective March 31, 2011.

Affected ADs

(b) None.

Applicability

(c) This AD applies to the airplanes identified in paragraphs (c)(1) and (c)(2) of this AD.

(1) Airbus Model A330-201, -202, -203, -223, -243, -301, -302, -303, -321, -322, -323, -341, -342, and -343 airplanes; certificated in any category; all serial numbers; except those on which Airbus modifications 58773 and 45968 have been embodied in production.

(2) Airbus Model A340-211, -212, -213, -311, -312, -313, -541, and -642 airplanes; certificated in any category; all serial numbers; except those on which Airbus modifications 58773 and 45968 have been embodied in production.

Subject

(d) Air Transport Association (ATA) of America Code 92.

Reason

(e) The mandatory continuing airworthiness information (MCAI) states:

* * * * *

* * * [T]here is a possible path for fluid ingress, resulting in connector internal arcing and hydraulic system malfunction. In addition, as the connectors are located in areas adjacent to fuel tanks, such arcing associated with the presence of a fuel leakage could lead to an uncontrolled fire.

* * * * *

Compliance

(f) You are responsible for having the actions required by this AD performed within the compliance times specified, unless the actions have already been done.

Actions

(g) Within 3,600 flight hours after the effective date of this AD, modify the hydraulic pump electrical motor connectors of the blue, yellow, and green electric pumps, in accordance with the Accomplishment Instructions of the applicable service information specified in Table 1 of this AD.

Table 1—Applicable Service Information
Airplane model— | Airbus Mandatory Service Bulletin— | Revision— | Dated—
A330 | A330-92-3088 | 02 | September 1, 2010.
A340 | A340-92-4081 | 02 | September 1, 2010.
A340 | A340-92-5053 | 02 | September 1, 2010.

Credit for Actions Accomplished in Accordance with Previous Issue of Service Information

(h) Modifications accomplished before the effective date of this AD in accordance with the service information specified in Table 2 of this AD are considered acceptable for compliance with the requirements of paragraph (g) of this AD.

Table 2—Credit Service Information
Airplane model— | Airbus Mandatory Service Bulletin— | Revision— | Dated—
A330 | A330-92-3088 | Original | September 2, 2009.
A330 | A330-92-3088 | 01 | February 22, 2010.
A340 | A340-92-4081 | Original | September 2, 2009.
A340 | A340-92-4081 | 01 | February 22, 2010.
A340 | A340-92-5053 | Original | September 2, 2009.
A340 | A340-92-5053 | 01 | February 22, 2010.

FAA AD Differences

Note 1: This AD differs from the MCAI and/or service information as follows: No differences.

Other FAA AD Provisions

(i) The following provisions also apply to this AD:

(1) Alternative Methods of Compliance (AMOCs): The Manager, International Branch, Transport Airplane Directorate, FAA, has the authority to approve AMOCs for this AD, if requested using the procedures found in 14 CFR 39.19. In accordance with 14 CFR 39.19, send your request to your principal inspector or local Flight Standards District Office, as appropriate. If sending information directly to the manager of the International Branch, send it to ATTN: Vladimir Ulyanov, Aerospace Engineer, International Branch, ANM-116, Transport Airplane Directorate, FAA, 1601 Lind Avenue SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(j) Refer to MCAI EASA Airworthiness Directive 2010-0086R1, dated June 16, 2010, and the service information specified in Table 3 of this AD, as applicable, for related information.

Table 3—Related Service Information
Airplane model— | Airbus Mandatory Service Bulletin— | Revision— | Dated—
A330 | A330-92-3088, including Appendix 01 | 02 | September 1, 2010.
A340 | A340-92-4081, including Appendix 01 | 02 | September 1, 2010.
A340 | A340-92-5053, including Appendix 01 | 02 | September 1, 2010.

Material Incorporated by Reference

(k) You must use the service information contained in Table 4 of this AD, as applicable, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Table 4—Material Incorporated by Reference
Airplane model— | Airbus Mandatory Service Bulletin— | Revision— | Dated—
A330 | A330-92-3088, including Appendix 01 | 02 | September 1, 2010.
A340 | A340-92-4081, including Appendix 01 | 02 | September 1, 2010.
A340 | A340-92-5053, including Appendix 01 | 02 | September 1, 2010.

Issued in Renton, Washington, on February 14, 2011.
Kalene C. Yanamura,
Acting Manager, Transport Airplane Directorate, Aircraft Certification Service.

[FR Doc. 2011-4041 Filed 2-23-11; 8:45 am]

BILLING CODE 4910-13-P